DEPARTMENT OF COMMERCE

Foreign-Trade Zones Board

[B-24-2025]

Foreign-Trade Zone (FTZ) 49, Notification of Proposed Production Activity; Merck, Sharp & Dohme LLC; (Pharmaceutical Products for Research and Development); Rahway, New Jersey

Merck, Sharp & Dohme LLC submitted a notification of proposed production activity to the FTZ Board (the Board) for its facility in Rahway, New Jersey, within Subzone 49Y. The notification conforming to the requirements of the Board's regulations (15 CFR 400.22) was received on April 2, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: drug products for infectious disease; neurologic disease; oncology; immunotherapy; cardiovascular disease; and, monoclonal antibody drug products for neurologic disease and oncology (duty free).

The proposed foreign-status materials/components include the following active pharmaceutical ingredients: pyridine infectious disease; lactam cardiovascular disease, pyranol immunotherapy; nucleoside infectious disease; furan infectious disease; pyrimidine infectious disease; monoclonal antibody neurologic disease; pyrimidine neurologic disease; pyridazine oncology; macrocycle infectious disease; monoclonal antibody oncology; alkaloid oncology; macrocycle cardiovascular disease; sulfonamide cardiovascular disease; and, pyran neurologic disease (duty rate ranges from duty-free to 6.5%). The request indicates that certain materials/components are subject to duties under section 1702(a)(1)(B) of the International Emergency Economic Powers Act (section 1702) and section 301 of the Trade Act of 1974 (section 301), depending on the country of origin. The applicable section 1702 and section 301 decisions require subject merchandise to be admitted to FTZs in privileged foreign status (19 CFR 146.41).

Public comment is invited from interested parties. Submissions shall be addressed to the Board's Executive Secretary and sent to: ftz@trade.gov. The closing period for their receipt is May 27, 2025.

A copy of the notification will be available for public inspection in the “Online FTZ Information System” section of the Board's website.

For further information, contact Diane Finver at Diane.Finver@trade.gov.

Dated: April 8, 2025.
Elizabeth Whiteman,
Executive Secretary.

[FR Doc. 2025-06283 Filed 4-11-25; 8:45 am]

BILLING CODE 3510-DS-P